ENVIRONMENTAL PROTECTION AGENCY

40 CFR Parts 52 and 81

[CA-283-0392; FRL-7472-6]

Approval and Promulgation of Implementation Plans and Designation of Areas for Air Quality Planning Purposes; 1-Hour Ozone Standard for Santa Barbara, CA

AGENCY: Environmental Protection Agency (EPA).

ACTION: Proposed rule.

SUMMARY: EPA is proposing to redesignate the Santa Barbara County area to attainment for the 1-hour ozone National Ambient Air Quality Standard (NAAQS). EPA is also proposing to approve a 1-hour ozone maintenance plan and motor vehicle emissions budgets as revisions to the Santa Barbara portion of the California State Implementation Plan (SIP).

DATES: Comments on this proposed action must be received by April 24, 2003.

ADDRESSES: Please address your comments to: Dave Jesson, EPA Region 9, 75 Hawthorne Street, San Francisco, CA 94105-3901.

You can inspect copies of the docket for this action at EPA's Region 9 office during normal business hours. You can also inspect copies of the submitted SIP revision at the following locations:

California Air Resources Board, 1001 I Street, Sacramento, CA 95814;

Santa Barbara County Air Pollution Control District, 26 Castilian Drive, Suite B-23, Goleta, CA 93117.

FOR FURTHER INFORMATION CONTACT: Dave Jesson, EPA Region 9,(415) 972-3957, or Jesson.David@epa.gov

SUPPLEMENTARY INFORMATION: Throughout this document, “we,” “us,” and “our” refer to EPA.

I. Background

A. Santa Barbara Designation, Classification, SIPs, and Attainment

When the Clean Air Act (CAA) was amended in 1990, each area of the country that was designated nonattainment for the 1-hour ozone NAAQS, including the Santa Barbara area, was classified by operation of law as marginal, moderate, serious, severe, or extreme depending on the severity of the area's air quality problem. The Santa Barbara County nonattainment area (“Santa Barbara”) was designated under CAA section 107 as nonattainment, and classified under CAA section 181 as moderate for the 1-hour ozone NAAQS. See 40 CFR 81.305 and 56 FR 56694 (November 6, 1991).

The Santa Barbara County Air Pollution Control District (SBCAPCD) adopted a moderate area plan, intended to demonstrate attainment by the applicable deadline of November 15, 1996. The California Air Resources Board (CARB) timely submitted the plan in 1994, but later withdrew the attainment demonstration portion, since the area continued to violate the standard in 1996. We approved the remaining portion of the plan on January 8, 1997 (62 FR 1187).

On December 10, 1997 (62 FR 65025), we determined that the area had not attained the 1-hour ozone standard by the 1996 deadline. As a result of that finding, Santa Barbara was reclassified to serious by operation of law under CAA section 181(b)(1)(A).

Upon the area's reclassification to serious, CAA sections 181(a)(1) and 182(c)(2)(A) required the State to submit a revised plan demonstrating attainment as expeditiously as practicable but no later than November 15, 1999. In response, SBCAPCD adopted and CARB submitted a plan addressing the serious area requirements. EPA fully approved this plan on August 14, 2000 (65 FR 49499).

Santa Barbara attained the 1-hour ozone NAAQS in 1999 and SBCAPCD adopted a 2001 Clean Air Plan (“2001 CAP”) on November 15, 2001, to address the Clean Air Act (CAA) section 175A provisions relating to 1-hour ozone maintenance plans. On May 29, 2002, CARB submitted the 2001 CAP, and requested that we make a finding of attainment for Santa Barbara and approve the contingency measures in the maintenance plan for the area. CARB indicated that the State would ask that we act on the remainder of the maintenance plan and redesignate the area to attainment when CARB requests our approval of an updated vehicle emissions factor model for use statewide in SIPs and transportation conformity analyses.

On August 27, 2002 (67 FR 54963), we found that the Santa Barbara County nonattainment area (“Santa Barbara area”) had attained the 1-hour ozone national ambient air quality standard (NAAQS) by the applicable deadline of November 15, 1999. In the same action, we also approved contingency measures in Santa Barbara's 2001 CAP under CAA section 110(k)(3). The proposed action contains more information on the finding of attainment and the contingency measures. 67 FR 44128, July 1, 2002.

On December 20, 2002, CARB transmitted for approval the State's latest update to the California-specific motor vehicle emissions model, known as EMFAC2002 (letter from Michael P. Kenny, CARB Executive Officer, to Jack Broadbent, Director, Air Division, EPA Region 9). On December 19, 2002, SBCAPCD adopted a minor revision to the 2001 CAP (“Final 2001 CAP”), amending the emissions inventory, maintenance demonstration, and motor vehicle emissions budgets to reflect EMFAC2002. On February 21, 2003, CARB submitted the Final 2001 CAP, as amended by the SBCAPCD, with a request that we approve the plan as meeting the CAA maintenance plan provisions and redesignate Santa Barbara to attainment for the 1-hour ozone NAAQS (letter from Catherine Witherspoon, CARB Executive Officer, to Wayne Nastri, Regional Administrator, EPA Region 9).

B. Clean Air Act Provisions for Maintenance Plans

CAA section 175A sets forth the elements of a maintenance plan for areas seeking redesignation from nonattainment to attainment. The maintenance plan must provide for continued maintenance of the applicable NAAQS for at least 10 years after the area is redesignated to attainment (CAA section 175A(a)). To address the possibility of future NAAQS violations, the maintenance plan must contain contingency provisions that are adequate to assure prompt correction of a violation, and must include a requirement that the State will implement all measures with respect to the control of the air pollutant concerned which were contained in the State implementation plan for the area before redesignation of the area as an attainment area (CAA section 175A(d)).

We have issued maintenance plan and redesignation guidance, primarily in the “General Preamble for the Implementation of Title I of the Clean Air Act Amendments of 1990” (“General Preamble,” 57 FR 13498, April 16, 1992); a September 4, 1992 memo from John Calcagni titled “Procedures for Processing Requests to Redesignate Areas to Attainment” (“Calcagni memo”); a September 17, 1993 memo from Michael H. Shapiro titled “State Implementation Plan (SIP) Requirements for Areas Submitting Requests for Redesignation to Attainment of the Ozone and Carbon Monoxide (CO) National Ambient Air Quality Standards (NAAQS) on or after November 15, 1992''; and a November 30, 1993 memo from D. Kent Berry titled “Use of Actual Emissions in the Maintenance Demonstrations for Ozone and Carbon Monoxide (CO) Nonattainment Areas.”

The Calcagni memo provides that an ozone maintenance plan should address five elements: an attainment year emissions inventory (i.e., an inventory reflecting actual emissions when the area recorded attainment, and thus a level of emissions sufficient to attain the 1-hour ozone NAAQS), a maintenance demonstration, provisions for continued operation of an appropriate air quality monitoring network, verification of continued maintenance, and contingency measures.

C. Clean Air Act Provisions for Redesignation

CAA section 107(d)(3)(E) allows for redesignation providing that: (1) We determine, at the time of redesignation, that the area has attained the NAAQS; (2) we have fully approved the applicable implementation plan for the area under section 110(k); (3) we determine that the improvement in air quality is due to permanent and enforceable reductions in emissions resulting from implementation of the SIP, applicable Federal regulations, and other permanent and enforceable reductions; (4) we fully approve a maintenance plan for the area as meeting the requirements of section 175A; and, (5) the State containing such area has met all nonattainment area requirements applicable to the area under section 110 and part D. We have provided guidance on redesignation in the General Preamble and in the guidance memos cited above.

II. EPA Review of the Santa Barbara Maintenance Plan and Redesignation Request

A. Maintenance Plan

As discussed above in section I.A., the 2001 CAP was initially submitted on May 29, 2002. SBCAPCD amended the plan on December 19, 2002, by updating the motor vehicle emissions inventory portion, and CARB submitted the revised plan, known as the Final 2001 CAP, on February 21, 2003.¹ The plan consists of 4 volumes, the plan itself and the following 3 appendices: Appendix A—Emission Inventory and Forecasting Documentation; Appendix B—Stationary Source Control Measure Documentation; Appendix C—Transportation Control Measures & On-Road Mobile Source Emissions Analysis.

¹ On February 25, 2003, we found that this submittal met the completeness criteria in 40 CFR part 51, appendix V, including the requirement for proper public notice and adoption.

On December 20, 2002, CARB also submitted the new CARB motor vehicle emissions factor model, EMFAC2002.² EMFAC2002 is used to prepare the on-road emission inventories in the plan. In early 2003, we expect to issue our conclusions regarding whether or not the EMFAC2002 emission factor element is acceptable and would thus be required to be used in the future for purposes of SIP development and transportation conformity. CARB has provided us with information about the EMFAC2002 revisions as they were being prepared and finalized, and we have preliminarily concluded for purposes of this proposed action that the emission factor element of EMFAC2002 is an improved and acceptable methodology for determining motor vehicle emissions. Assuming that we find that the updated emission factor model is acceptable, we propose to approve fully the emissions inventory, maintenance demonstration, motor vehicle emissions budgets in the Final 2002 CAP, and redesignation request, as discussed below. If we fail to find that the emission factor element is acceptable, we will not finalize these actions.

² The EMFAC model is the California equivalent to EPA's national motor vehicle emissions model, the most recent version of which is MOBILE6. EMFAC2002 reflects new vehicle test data and quantification techniques to update and enhance the information in the most recent prior versions. For example, EMFAC2002 accounts for heavy-duty vehicle emissions during extended idling and during off-cycle operation.

1. Attainment Emissions Inventory

The Final 2001 CAP includes 1999 attainment emissions inventories for Volatile Organic Compounds (VOC) and Nitrogen Oxides (NOX), which are used to forecast emissions for 2005, 2010, and 2015, taking into account future growth and changes in control factors.³ Four emissions inventories are presented for the attainment year and for the projected years: annual inventories for the onshore and for the Outer Continental Shelf (OCS), and planning (typical summer day) inventories for the onshore and for the OCS. The primary difference between the annual emissions inventories and the planning emissions inventories lies in the adjustment of annual emissions in the planning inventories to reflect summer seasonal variations, and the planning inventories' exclusion of natural sources (such as biogenics, oil and gas seeps, and wildfires), since those sources are not regulated.

³ The Santa Barbara 2001 CAP uses the term Reactive Organic Compounds (ROC) in place of the Federal terminology, VOC. The terms are essentially synonymous. Because VOC is the more common term, we use it in this notice.

The inventories use current and accurate methodologies, emissions factors, and survey information. The inventories represent actual emissions, with certain exceptions that are documented in the maintenance plan.⁴ For example, the projected emissions inventories include emission reduction credits (ERCs) in the SBCAPCD's Source Register (2001 CAP, page 6-2) and a projected growth conformity allowance for the Vandenberg Air Force Base (2001 CAP, page 6-5).⁵

⁴ Documentation on the emissions inventories appears in Appendix A of the Final 2001 CAP, which presents growth and control factors by source category and fuel type, and displays the impact of rules and control measures on each affected source category.

⁵ Emissions added to the plan to accommodate the Airborne Laser (ABL) Mission are as follows: 2005-0.0552 tpd VOC, 0 tpd NOX; 2010 and 2015-0.0656 tpd VOC, 0.3602 tpd NOX. The 2001 CAP notes that the NOX growth allowance covers emissions increases from the ABL project that remain after application of 0.1265 emission reduction credits from the Source Register.

The 2001 Plan projects no growth in emissions from OCS oil and gas production activities, noting that any increased production would be permitted under the New Source Review (NSR) or Prevention of Significant Deterioration (PSD) regulations, and therefore any potential increase in emissions would need to be offset to provide a net emission benefit from the new OCS activity.

The onroad emissions inventories employ the new CARB motor vehicle emissions factor model, EMFAC2002. The motor vehicle inventories use the latest planning activity levels, including data generated by the Santa Barbara County Association of Government's Santa Barbara Travel Model, and updated county-specific vehicle data from the California Department of Motor Vehicles.

As discussed above, we expect to issue our conclusions regarding whether or not the emission factor element of EMFAC2002 is acceptable in the near future. Assuming that we find that the updated element is acceptable, we propose to approve fully the emissions inventories under CAA sections 172(c)(3) and 175A, since the inventories are complete, consistent with our most recent guidance, and reflect the latest information available at the time of plan preparation. However, if we fail to find that the emission factor element of the model is adequate, we will not finalize this proposed approval.

2. Maintenance Demonstration

Original maintenance plans must show how the NAAQS will be maintained for the next 10 years following redesignation to attainment. This is generally performed by assuming that the emissions levels at the time attainment is achieved constitute a limit on the emissions that can be accommodated without violating the NAAQS. In the case of this plan, projected VOC and NOX emissions for 2010 and 2015 show continued attainment, since emissions levels of both of the ozone precursors are below 1999 levels. Table 1 below shows baseline and projected summer day emissions levels from both onshore and OCS sources.

Table 1.—Santa Barbara County Maintenance Demonstration Summer Day Emissions in Tons per Day
[Source: Santa Barbara Final 2001 Clean Air Plan]
Year | VOC | NOX
1999 | 43.69 | 77.64
2005 | 35.52 | 75.23
2010 | 30.97 | 74.04
2015 | 29.54 | 77.55

Maintenance is demonstrated since emissions of both ozone precursors decline from the 1999 attainment year inventory: VOC emissions are reduced by 14 tpd (approximately 32 percent) from 1999 to 2015, and NOX emissions are reduced by 3.6 tpd by 2010 (approximately 5 percent), but are essentially unchanged (a decrease of 0.09 tpd or less than 1 percent) by 2015. Increasingly stringent California and Federal motor vehicle emissions standards and fleet turnover account for the bulk of the inventory reductions, and the remaining emissions reductions come from fully adopted, permanent, and enforceable State, local, and Federal regulations.

NOX emissions are predicted to decline only slightly (less than 1 percent) by 2015, since the onshore reductions are almost eliminated by the 68 percent increase in OCS emissions associated with growth in international marine vessel activities. The SBCAPCD notes that additional actions by the federal government and EPA will be required to reduce the marine vessel emission increases. Final 2001 CAP, pages 7-9 through 7-11. While the plan does demonstrate maintenance despite projected growth in ship emissions, we are working with SBCAPCD, CARB, and other stakeholders to identify and implement programs that can reduce emissions from marine vessels.

Assuming that we find that the emission factor element of EMFAC2002 is adequate, we propose to approve the maintenance demonstration under CAA section 175A(a), since the plan shows that emissions will remain below attainment levels due to the projected impact of fully adopted, permanent, and enforceable regulations. If we fail to find that the EMFAC2002 emission factor element is acceptable, we will not finalize this proposed action.

3. Continued Ambient Monitoring

The maintenance plan needs to contain provisions for continued operation of an air quality monitoring network that meets the provisions of 40 CFR part 58 and will verify continued attainment. The maintenance plan indicates that SBCAPCD will use air quality data from all monitoring stations in the County to track attainment status, and that the District will prepare annual design value summaries to verify maintenance of the NAAQS. Final 2001 CAP, page 7-11. This SBCAPCD commitment meets the continued monitoring provision.

4. Verification of Continued Attainment

The maintenance plan needs to show how the responsible agencies will track progress, and the plan should specifically provide for periodic inventory updates. The Santa Barbara maintenance plan indicates that SBCAPCD will meet this obligation through triennial updates to the area's attainment plan for the more protective State 1-hour ozone standard, which are mandated by the California Clean Air Act. These updates include assessments of the effectiveness of the control strategy, corrections for deficiencies in meeting progress requirements under State law, and new emissions inventory data or projections. We agree with the SBCAPCD that the triennial updates will meet our provisions for verification of continued attainment.

5. Contingency Provisions

CAA section 175A(d) provides that maintenance plans include contingency provisions “necessary to assure that the State will promptly correct any violation of the standard * * *. Such provisions shall include a requirement that the State will implement all measures with respect to the control of the air pollutant concerned which were contained in the State implementation plan for the area before redesignation of the area as an attainment area.”

As noted above in Section I.A., we have already approved and made federally enforceable the contingency measures in Santa Barbara's 2001 CAP on August 27, 2002 (67 FR 54963). In that rulemaking, we approved 8 contingency measures under CAA section 110(k)(3) because these measures strengthened the existing SIP. These measures are listed below in Table 2, “Contingency Measures.”

Table 2.—Contingency Measures
[Source: Final 2001 Clean Air Plan, Table 4-3]
Rule | CAP control measure ID | Description | Adoption schedule | Emission reductions in tons per day (with full implementation): VOC | Emission reductions in tons per day (with full implementation): NOX
323 | R-SC-1 | Architectural Coatings (Revision) | 2001-2003 | 0.0998 | 0
333 | N-IC-1 N-IC-3 | Stationary IC Engines | 2002-2003 | 0.0008 | 0.0128
360 | N-XC-2 | Large Water Heaters & Small Boilers, Steam Generators, Process Heaters (75,000 Btu/hr to <2 MMBtu/hr) | 2001-2003 | 0 | ¹ 0.0133
321 | R-SL-1 | Solvent Degreasers (Revision) | 2004-2006 | 0.0562 | 0
362 | R-SL-2 | Solvent cleaning operations | 2004-2006 | 1.0103 | 0
363 | N-IC-2 | Gas Turbines | 2004-2006 | 0 | 0
358 | R-SL-4 | Electronic Industry—Semiconductor Manufacturing | 2007-2009 | ²0.0026 | 0
361 | N-XC-4 | Small Industrial and Commercial Boilers, Steam Generators, and Process Heaters (2 MMBtu/hr to <5 MMBtu/hr) | 2007-2009 | 0 | ³ 0.0028
¹ This is with 15% implementation, the highest implementation figure available from the District's analysis.
² The data shown are for source classification code (SCC) number 3-13-065-06 only. The emission data for the SCC numbers and the category of emission source (CES) numbers subject to Rule 358 are included in the Rule 321 or Rule 361 emission reduction summaries.
³ The emission reductions shown are based on Rule 361 being a point-of-sale type rule.

When we approved these measures, the State had not yet submitted the Final 2001 CAP for approval under CAA section 175A, and so we did not rule on whether the contingency measures and other contingency provisions met the specific requirements of CAA section 175A(d).

The CAA and EPA's guidance on contingency provisions in maintenance plans do not require that the contingency measures be fully adopted (unlike the requirement for contingency measures in attainment plans), but that the maintenance plan should have a clear trigger and should provide for expedient adoption of measures sufficient to correct the violation promptly.

The Santa Barbara maintenance plan includes schedules for adopting the contingency measures as shown in Table 2, and the plan also includes a commitment by the SBCAPCD to evaluate and expedite rule adoption process in coordination with USEPA if the area experiences a violation of the Federal 1-hour ozone NAAQS prior to 2015 (Final 2001 CAP, page 7-12). Moreover, SBCAPCD has committed to take expeditious action following a violation to ensure that measures are implemented promptly to correct the violation (SBCAPCD Resolution No. 02-18, December 19, 2002).

6. Motor Vehicle Emissions Budgets

Maintenance plan submittals must specify the maximum emissions of transportation-related precursors of ozone allowed in the last year of the maintenance period. The submittals must also demonstrate that these emissions levels, when considered with emissions from all other sources, are consistent with maintenance of the NAAQS. In order for us to find these emissions levels or “budgets” adequate and approvable, the submittal must meet the conformity adequacy provisions of 40 CFR 93.118(e)(4) and (5), and be approvable under all pertinent SIP requirements.

The budgets defined by this and other plans when they are approved into the SIP or, in some cases, when the budgets are found to be adequate, are then used to determine the conformity of transportation plans, programs, and projects to the SIP, as described by CAA section 176(c)(3)(A). For more detail on this part of the conformity requirements, see 40 CFR 93.118. For transportation conformity purposes, the cap on emissions of transportation-related ozone precursors is known as the motor vehicle emissions budget. The budget must reflect all of the motor vehicle control measures contained in the maintenance demonstration (40 CFR 93.118(e)(4)(v)).

The motor vehicle emissions budgets are presented in Table 3 below, entitled “Santa Barbara Revised 2001 Clean Air Plan Motor Vehicle Emissions Budgets,” which is taken from section 5.4 of the Final 2001 CAP.

Table 3.—Santa Barbara Final 2001 Clean Air Plan Motor Vehicle Emissions Budgets
[Emissions are shown in tons per day]
Year | NOX | VOC
2005 Budget | 19.59 | 11.91
2015 Budget | 9.75 | 5.90

As discussed above, the motor vehicle emissions portion of these budgets (i.e., the evaporative and tailpipe emissions) was developed using EMFAC2002 and updated county-specific vehicle data, including the latest Santa Barbara County planning assumptions on vehicle fleet and age distribution and activity levels. Assuming that we find the EMFAC2002 emission factor model is acceptable, we propose to approve the motor vehicle emission budgets as consistent with the criteria of 40 CFR 93.118(e)(4) and (5), including consistency with the baseline emissions inventories and the motor vehicle emissions used in the maintenance demonstration. If we do not find that the EMFAC2002 emission factor model is acceptable, we would not finalize the proposed approval of the budgets.

B. Redesignation Provisions

1. Attainment of the 1-Hour Ozone NAAQS

On August 27, 2002 (67 FR 54963), EPA issued a final determination that Santa Barbara County had attained the 1-hour ozone NAAQS by the CAA deadline of November 15, 1999. This finding was based on our conclusion that the design value for each monitor in the County for the period 1997-1999 was equal to or less than 0.12 ppm, and the average number of expected exceedance days per year was 1.0 or less for each monitor during that period. We also concluded that the ozone monitoring network for the area continued to meet or exceed applicable requirements. See the discussion in our proposed determination of attainment published on July 1, 2002 (67 FR 44128).

We have now looked at exceedance days and design values for each monitor for more recent 3-year periods, 1999-2001 and 2000-2002. These data are presented in Table 4, entitled Average Number of Ozone Exceedance Days per Year and Design Values by Monitor in Santa Barbara County, 1999-2001 and 2000-2002.” As noted, not all data for the 4th quarter of 2002 have yet been quality assured and entered into EPA's Aerometric Information Retrieval System-Air Quality Subsystem (AIRS-AQS) database.

Table 4.—Average Number of Ozone Exceedance Days per Year and Design Values by Monitor in Santa Barbara County, 1999-2001 and 2000-2002
Site ¹ | 1999-2001: Average number of exceedance days per year | 1999-2001: Site design value (ppm) | 2000-2002: Average number of exceedance days per year | 2000-2002: Site design value (ppm)
El Capitan St (SLAMS) | 0 | 0.088 | 0 | 0.087
Goleta (SLAMS) | 0 | 0.080 | 0 | 0.079
Lompoc H Street (SLAMS) | 0 | 0.076 | 0 | 0.074
Santa Barbara ² (SLAMS) | 0 | 0.081 | 0 | 0.080
Santa Maria (SLAMS) | 0 | 0.064 | 0 | 0.064
Santa Ynez (SLAMS) | 0 | 0.079 | 0 | 0.082
Santa Rosa Island (Nat. Park) | 0 | 0.086 | 0 | 0.079
Carpinteria (SPM) | 0 | 0.094 | 0 | 0.088
GTC B (SPM) | 0 | 0.085 | 0 | 0.085
Lompoc HS&P (SPM) | 0 | 0.083 | 0 | 0.081
Paradise Road (SPM) | 0 | 0.101 | 0 | 0.101
Las Flores Canyon (Site 1) (SPM) | 0.7 | 0.098 | 0.3 | 0.097
Vandenburg AFB STS (SPM) | 0 | 0.081 | 0 | 0.079
Note 1: State or Local Air Monitoring Stations (SLAMS) are operated by SBCAPCD or CARB, while special purpose monitors (SPMs) are operated independently by certain permitted stationary sources in the county under the oversight of the SBCAPCD. All data produced by these SPMs are submitted to EPA's Aerometric Information Retrieval System-Air Quality Subsystem (AIRS-AQS) database.
Note 2: The Santa Barbara monitor (at 3 W. Carrillo Street) was shut down from 11/1/00 through 5/23/01, and from 2/1/02 through 5/1/02. The monitor recorded essentially complete data for the period 1997-1999 and during this period the peak concentration was 0.098 ppm. No exceedances have been recorded at the monitor since 1992.

As shown in Table 4, the highest design value at any monitor for 1999-2001 and for 2000-2002, and thus the design value for the Santa Barbara area for those periods, is below 0.12 ppm. No monitor in the Santa Barbara area recorded an average of more than 1 exceedance of the 1-hour ozone standard per year during the 1999-2001 and 2000-2002 periods.

Because the area's design value is below the 1-hour ozone standard of 0.12 ppm and the area has averaged less than 1 exceedance per year at each monitor for the 1999-2001 and 2001-2002 periods, we propose to conclude that the Santa Barbara area has met this prerequisite to redesignation because the area has attained and continues to attain the 1-hour ozone standard.

2. Fully Approved Implementation Plan Under CAA Section 110(k)

Following adoption of the CAA of 1970, California has adopted and submitted and we have fully approved at various times provisions addressing the various SIP elements applicable in Santa Barbara County. No Santa Barbara SIP provisions are currently disapproved, conditionally approved, or partially approved.

3. Improvement in Air Quality Due to Permanent and Enforceable Measures

Section 7.4 of the Final 2001 CAP includes analyses demonstrating that the reductions in ozone concentrations cannot be attributed to reduced activity levels or favorable meteorology, but are rather due to permanent and enforceable measures, such as those discussed in Chapters 4 and 5 of the Final 2001 CAP. The plan shows a steady increase in vehicle miles traveled from 1995 through 1999, reflective of continued activity growth in the area. The plan also lists mean temperature during April to October for each year from 1990 through 2000, and compares these values with the 74-year April to October average. There were a variety of weather conditions during the period when the County had attained the NAAQS, suggesting that anomalous weather does not account for attainment.

4. Fully Approved Maintenance Plan

In section II.A., above, we are proposing to approve fully the Final 2001 CAP as meeting the CAA section 175A provisions for maintenance plans, assuming that we find that the EMFAC2002 emission factor element is adequate.

5. CAA Section 110 and Part D Provisions Satisfied

We approved Santa Barbara's 1994 ozone SIP on January 8, 1997 (62 FR 1187) with respect to CAA section 110 and Part D provisions applicable to a moderate nonattainment area, with the exception of the attainment demonstration, which the State had withdrawn. Following our reclassification of Santa Barbara to serious, Santa Barbara adopted and the State submitted a plan addressing CAA section 110 and Part D provisions applicable to a serious nonattainment area, including the demonstration of attainment. We fully approved this plan on August 14, 2000 (65 FR 49499).

III. EPA Action

We are proposing to approve the Santa Barbara Final 2001 CAP under CAA sections 175A and 110(k)(3). As discussed above in section I.A., we have previously approved the contingency measures under CAA section 110(k)(3); we are now proposing to approve them as meeting the requirements of CAA section 175A(d). We are proposing to approve the 2005 and 2015 VOC and NOX motor vehicle emissions budgets in Table 5-5 under CAA sections 176(c) as adequate for maintenance of the 1-hour ozone NAAQS and for transportation conformity purposes. Finally, we are proposing to redesignate Santa Barbara to attainment for the 1-hour ozone standard under CAA section 107(d)(3)(E). As we have discussed, however, we would not finalize these actions if we fail to conclude that the emission factor element of EMFAC2002 is acceptable.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects

40 CFR Part 52

Environmental protection, Air pollution control, Carbon monoxide, Incorporation by reference, Intergovernmental relations, Nitrogen dioxide, Ozone, Reporting and recordkeeping requirements, Volatile organic compounds.

40 CFR Part 81

Environmental protection, Air pollution control, National parks, Wilderness areas.

Authority: 42 U.S.C. 7401 et seq.

Dated: March 6, 2003.
Alexis Strauss,
Acting Regional Administrator, Region IX.

[FR Doc. 03-7058 Filed 3-24-03; 8:45 am]

BILLING CODE 6560-50-P